DEPARTMENT OF COMMERCE

Census Bureau

Proposed Information Collection; Comment Request; Automated Export System (AES) Program

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 25, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or instructions on how to complete the collection instrument should be directed to Joe A. Cortez, Chief, Regulations, Outreach and Education Branch, U.S. Census Bureau, 4600 Silver Hill Road, Room 6K125, Washington, DC 20233-6700, (301) 763-1413, by fax (301) 763-8835 or via the Internet at joe.a.cortez@census.gov.

SUPPLEMENTARY INFORMATION:

I. Abstract

The Automated Export System (AES), is the instrument used for collecting export trade information. The data collected from this source is compiled by the U.S. Census Bureau and functions as the basis for the official U.S. export trade statistics. These statistics are used to determine the balance of international trade, and are also designated for use as a principal economic indicator. Title 13, United States Code (U.S.C.), Chapter 9, Section 301 authorizes the Census Bureau to collect, compile and publish export trade data. Title 15, Code of Federal Regulations (CFR), Part 30, contains the regulatory provisions for preparing and filing the AES record. These data are used in the development of U.S. Government policies that affect the economy. These data also enable U.S. businesses to develop practical export marketing strategies as well as provide a means for the assessment of the impact of exports on the domestic economy. These data collected from the AES record are also used for export control purposes under Title 50, U.S.C., Export Administration Act, to detect and prevent the export of certain items by unauthorized parties or to unauthorized destinations or end users.

The Foreign Trade Regulations (FTR) were published on June 2, 2008, and were implemented September 30, 2008. These regulations require the mandatory filing of export information through the AES or AESDirect. Currently, the Foreign Trade Regulations are being amended to reflect new export reporting requirements.

The Census Bureau plans to publish a Notice of Proposed Rule (NPR) addressing these changes and giving the public opportunity to comment on the proposed changes. The proposed changes will require the addition of new data elements in the AES as well as modifications to current data elements. The fields that will be added/modified are conditional data elements. Therefore, these data elements will only be required if that element applies to the specific shipment being exported. In addition, AES filings will be mandatory for shipments of all used self-propelled vehicles and household goods regardless of value or country of destination.

The additional data elements include name and address of the end user, and ultimate consignee type. The addition of these conditional fields will support the export control initiative of enforcement agencies by helping to detect and prevent the export of items by unauthorized parties or to unauthorized destinations or end users. However, these conditional data elements will have limited impact on burden response time since entering information for the end user and consignee type is based on the knowledge the exporter has at the time of export. Therefore, if that information is not known, the filer is not required to report the information.

Additional data elements that will be included are license applicant address, license value, and country of origin. Also, the equipment number field will be revised to require the container number for all containerized cargo. For shipments where a license is required, the address of the license applicant will be required to be reported. The license value per commodity classification will be required to be reported in addition to the value that is currently captured in the AES. Currently, only six percent of records filed require a license. For shipments where the origin of the commodity is foreign, the country of origin will be required to be reported. Currently, 17 percent of records filed contain goods of foreign origin. For shipments where the method of transportation (MOT) is containerized vessel cargo, the container number will be required to be reported in the equipment number field. Currently, 19 percent of records filed are reported as containerized. Individually, completing these conditional fields will not affect respondent burden significantly. Each additional field affects only a percentage of the shipments that are required to be reported in the AES.

The mandatory requirement to file used self-propelled vehicles as defined in Title 19, CFR, Part 192.1 will increase the number of shipments requiring an AES record by approximately three percent. The increase in required filings for household goods is negligible. This is due to the fact that shipments of household goods have been historically low. Although the number of shipments that will have to be filed will increase slightly, it is critical to capture this information for the purposes of export control under Title 50, U.S.C., Export Administration Act, to detect and prevent the export of certain items by unauthorized parties or to unauthorized destinations or end users.

Data that will be captured based on these new export reporting requirements are essential in compiling complete and accurate export statistics, as well as strengthening export controls. In spite of new filing requirements, the overall time per response will remain at 3 minutes per AES filing. The additional time required to complete the AES record is offset by technological advances made to the AES along with filers' heightened knowledge of the filing requirements and system functionality since the implementation of mandatory electronic filing in 2008.

II. Method of Collection

An electronic AES record is required, with certain exceptions, for all export shipments valued more than $2,500 per Schedule B from the United States, including Foreign Trade Zones located therein, Puerto Rico, and the U.S. Virgin Islands to foreign countries; for exports between the United States and Puerto Rico; and for exports to the U.S. Virgin Islands from the United States or Puerto Rico. The AES record is required for the export of rough diamonds and all exports requiring a license from any other government agency or license exemption from the Department of State, regardless of value. The AES record is also required for exports with a license exception from the Bureau of Industry and Security when valued over $2,500 per Schedule B. The AES program is unique among Census Bureau statistical collections since it is not sent to respondents to solicit responses, as is the case with surveys. Filing export information via the AES is a mandatory process under Title 13, Chapter 9, U.S.C. Exporters can access the AES via the Census Bureau's free Internet-based system, AESDirect, or they can integrate the AES into their company's computer network and file directly with the U.S. Customs and Border Protection (CBP).

For exports to Canada, a Memorandum of Understanding (MOU) signed by the CBP, Canada Border Services Agency, and statistical agencies in the United States and Canada enables the United States to substitute Canadian import statistics for U.S. export statistics. Similarly, in accordance with the MOU, Canada substitutes U.S. import statistics for Canadian exports to the United States. This exchange of data eliminates the requirement for U.S. exporters to file any information with the U.S. Government for exports of nonlicensed shipments to Canada, thus resulting in the elimination of over nine million AES records annually. Export shipments to Canada of rough diamonds, used vehicles, household goods or those that require a license must be filed through the AES. Also, export shipments from the United States through Canada destined to a country other than Canada require an AES record.

U.S. principal parties in interest (USPPI) or authorized agents file electronic export information via the AES prior to the export of the shipment. The proof of filing citation received from the AES must be noted on the commercial loading documents upon arrival of the shipment at the port of export. In instances where the AES filing is not required, the proper exemption legend must be noted on the commercial loading documents.

The AES enables the government to significantly improve the quality, timeliness, and coverage of export statistics. Since July 1995, the Census Bureau and the CBP have utilized the AES to improve the reporting of export trade information, customer service, compliance with and enforcement of export laws, and provide paperless reports of export information. The AES also enables the U.S. Government to increase its ability to prevent the export of certain items by unauthorized parties, to unauthorized destinations and end users through electronic filing.

III. Data

OMB Control Number: 0607-0152.

Form Number: Automated Export System (AES) submissions.

Type of Review: Regular submission.

Affected Public: Exporters, Forwarding agents, Export Carriers.

Estimated Number of Respondents: 288,747.

Estimated Time per Response: 3 minutes for AES Submission.

Estimated Total Annual Burden Hours: 791,607.

Estimated Total Annual Cost: $14,185,597.

Respondent's Obligation: Mandatory.

Legal Authority: Title 13 United States Code, Chapter 9; Public Law 107-228 Foreign Relations Authorization Act.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 19, 2011.
Glenna Mickelson,
Management Analyst, Office of the Chief Information Officer.

[FR Doc. 2011-1321 Filed 1-21-11; 8:45 am]

BILLING CODE 3510-07-P